MILLENNIUM CHALLENGE CORPORATION

[MCC FR 07-01]

Notice of the February 14, 2007 Millennium Challenge Corporation Board of Directors Meeting; Sunshine Act Meeting

AGENCY: Millennium Challenge Corporation.

Time and Date: 2 P.M. to 4 P.M., Wednesday, February 14, 2007.

Place: Department of State, 2201 C Street, NW., Washington, DC 20520.

FOR FURTHER INFORMATION CONTACT: Information on the meeting may be obtained from Suzi M. Morris via e-mail at Board@mcc.gov or by telephone at (202) 521-3600.

Status: Meeting will be closed to the public.

Matters To Be Considered: The Board of Directors (the “Board”) of the Millennium Challenge Corporation (“MCC”) will hold a meeting to discuss and consider Threshold Program assistance for two countries that are eligible for Millennium Challenge Account (“MCA”) assistance under Section 616 of the Millennium Challenge Act (the “Act”), codified at 22 U.S.C. 7715; the reinstatement of a country that was previously suspended from Threshold Program eligibility pursuant to Section 611 of the Act, codified at 22 U.S.C. 7710, and MCC's Policy on Suspension and Termination; an MCC Operations update; compact development issues related to MCA-eligible countries; and certain administrative matters.

The agenda items are expected to involve the discussion of classified information and the meeting will be closed to the public.

Dated: February 1, 2007.
William G. Anderson, Jr.,
Vice President and General Counsel, Millennium Challenge Corporation.

[FR Doc. 07-511 Filed 2-1-07; 1:27 pm]

BILLING CODE 9211-03-P